DEPARTMENT OF TRANSPORTATION

Federal Aviation Administration

[Docket No. FAA -2025-0601]

Agency Information Collection Activities: Requests for Comments; Clearance of Renewed Approval of Information Collection: Suspected Unapproved Parts Report

AGENCY: Federal Aviation Administration (FAA), Department of Transportation (DOT).

ACTION: Notice and request for comments.

SUMMARY: In accordance with the Paperwork Reduction Act of 1995, FAA invites public comments about our intention to request the Office of Management and Budget (OMB) approval to renew an information collection. The information collected on the FAA Form 8120-11 is reported voluntarily by manufacturers, repair stations, aircraft owner/operators, air carriers, and the general public who wish to report the discovery of, and potential use or possession of aircraft suspected unapproved parts to the FAA for review. The report information is collected and evaluated by the FAA, Aviation Safety Hotline Program Office, and used to determine if an unapproved part investigation is warranted.

DATES: Written comments should be submitted by July 21, 2025.

ADDRESSES: Please send written comments:

By Electronic Docket: www.regulations.gov (Enter docket number into search field).

By mail: David Jeffery, 303 Corporate Center Dr., Ste. 312, Vandalia, OH 45377.

By fax: 937-898-8717.

FOR FURTHER INFORMATION CONTACT: David Jeffery by email at: david.jeffery@faa.gov; phone: 937-898-3991 ext. 204

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0552.

Title: Suspected Unapproved Parts Report.

Form Numbers: FAA Form 8120-11.

Type of Review: Renewal of an information collection.

Background: The information collected on the FAA Form 8120-11 is reported voluntarily by manufacturers, repair stations, aircraft owner/operators, air carriers, and the general public who wish to report suspected unapproved parts to the FAA for review. The report information is collected and correlated by the FAA, Aviation Safety Hotline Program Office, and used to determine if an unapproved part investigation is warranted. When unapproved parts are confirmed that are likely to exist on other products or aircraft of the same or similar design or are being used in other facilities, the information is used as a basis for an aviation industry alert or notification. Alerts are used to inform industry of situations essential to the prevention of accidents, if the information had not been collected. The consequence to the aviation community would be the inability to determine whether or not unapproved parts are being offered for sale or use for installation on type-certificated products.

Procedures and processes relating to the SUP program and associated reports are found in FAA Order 8120.16A, Suspected Unapproved Parts Program, and AC 21-29, Detecting and Reporting Suspected Unapproved Parts. When unapproved parts are identified, the FAA notifies the public by published Field Notifications (FN), disseminated using Unapproved Parts Notifications (UPN), Aviation Maintenance Alerts, Airworthiness Directives (AD), entry into an issue of the Service Difficulty Reporting Summary, a Special Airworthiness Information Bulletin, a display on an internet site, or direct mailing. Reporting of information is strictly voluntary. The information is requested from any individual or facility suspecting an unapproved part. Any burden is minimized by requesting only necessary information to warrant an investigation.

Respondents: Anyone may fill out and send a Form 8120-11 into the FAA.

Frequency: Whenever anyone discovers or suspects they have received an unapproved part.

Estimated Average Burden per Response: About 30 minutes to read and disposition each form.

Estimated Total Annual Burden: The FAA collects approximately 30 forms from the public per year.

Issued in Fort Worth, Texas.
Rex A. Loveday,
Directives and Forms Management Officer (DMO/FMO), Policy and Standards Division, AIR-600, Office of Aviation Safety.

[FR Doc. 2025-09197 Filed 5-21-25; 8:45 am]

BILLING CODE 4910-13-P